INTERNATIONAL TRADE COMMISSION

[USITC SE-07-016]

Sunshine Act Meeting Notice

Agency Holding the Meeting: United States International Trade Commission.

Time and Date: September 7, 2007 at 11 a.m.

Place: Room 101, 500 E Street, SW., Washington, DC 20436, Telephone: (202) 205-2000.

Status: Open to the public.

Matters to be Considered:

1. Agenda for future meetings: None.

2. Minutes.

3. Ratification List.

4. Inv. Nos. 701-TA-365-366 and 731-TA-734-735 (Second Review) (Certain Pasta from Italy and Turkey)—briefing and vote. (The Commission is currently scheduled to transmit its determinations and Commissioners' opinions to the Secretary of Commerce on or before September 27, 2007.)

5. Outstanding action jackets: None.

In accordance with Commission policy, subject matter listed above, not disposed of at the scheduled meeting, may be carried over to the agenda of the following meeting.

By order of the Commission.
Issued: August 27, 2007.
William R. Bishop,
Hearings and Meetings Coordinator.

[FR Doc. E7-17231 Filed 8-29-07; 8:45 am]

BILLING CODE 7020-02-P